OFFICE OF THE UNITED STATES TRADE REPRESENTATIVE

Information on 2021 Tariff-Rate Quotas for Exports From the United Kingdom

AGENCY: Office of the United States Trade Representative.

ACTION: Notice.

SUMMARY: The Office of the United States Trade Representative is providing notice that the United Kingdom (UK) in 2021 continues to be eligible to export under U.S. tariff-rate quotas (TRQs) allocated to the member countries of the European Union (EU).

DATES: This notice is applicable as of February 8, 2021.

FOR FURTHER INFORMATION CONTACT: Roger A. Wentzel, Office of Agricultural Affairs, at 202-395-5124, or Roger_Wentzel@ustr.eop.gov.

SUPPLEMENTARY INFORMATION: Pursuant to Additional U.S. Notes 6, 16 to 23, and 25 to Chapter 4 and Note 5 to Chapter 24 of the Harmonized Tariff Schedule of the United States (HTSUS), the United States maintains TRQs for imports from specific countries or customs areas, including the EU (designated in the HTSUS as the EU27 and including the UK).

Section 404(d)(3) of the Uruguay Round Agreements Act (19 U.S.C. 3601(d)(3)) authorizes the President to allocate the in-quota quantity of a TRQ for any agricultural product among supplying countries or customs areas and to modify any allocation as determined appropriate by the President. The President delegated this authority to the U.S. Trade Representative under Presidential Proclamation 6763 (60 FR 1007).

On October 17, 2019, the UK and EU agreed to the withdrawal of the UK from the EU and the European Atomic Energy Community (Withdrawal Agreement). As part of the Withdrawal Agreement, the UK and EU agreed to a transition period, which ended on December 31, 2020. For 2021, the U.S. Trade Representative has determined that the UK will continue to be eligible to export under U.S. TRQs allocated to the EU under Additional U.S. Notes 6, 16 to 23, and 25 to Chapter 4 and Note 5 to Chapter 24 of the HTSUS. Additional information about certain dairy TRQs is available in the U.S. Department of Agriculture's notice Information on Dairy Import Licenses for the 2021 Tariff-Rate Quota (TRQ) Year—United Kingdom Designation of Importers for Dairy Import Licenses (85 FR 70127), which provides, in part, that for the 2021 quota year, the UK Government may designate importers for licenses for the quantities of cheese that have historically been supplied by UK exporters under designated licenses for Cheese and Curd (Note 16), Blue Mold (Note 17), and Cheddar (Note 18).

Julie Callahan,
Assistant U.S. Trade Representative for Agricultural Affairs and Commodity Policy, Office of the United States Trade Representative.

[FR Doc. 2021-02473 Filed 2-5-21; 8:45 am]

BILLING CODE 3290-F0-P